DEPARTMENT OF TRANSPORTATION

Federal Aviation Administration

14 CFR Part 39

[Docket No. FAA-2005-22627; Directorate Identifier 2005-NM-156-AD; Amendment 39-14425; AD 2005-26-04]

RIN 2120-AA64

Airworthiness Directives; Bombardier Model CL-600-1A11 (CL-600), CL-600-2A12 (CL-601), and CL-600-2B16 (CL-601-3A and CL-601-3R) Airplanes

AGENCY: Federal Aviation Administration (FAA), Department of Transportation (DOT).

ACTION: Final rule.

SUMMARY: The FAA is adopting a new airworthiness directive (AD) for certain Bombardier Model CL-600-1A11 (CL-600), CL-600-2A12 (CL-601), and CL-600-2B16 (CL-601-3A and CL-601-3R) airplanes. This AD requires measuring to detect migration of the lower gimbal pin and inspecting for other discrepancies of the horizontal stabilizer trim actuator (HSTA). This AD also requires replacing or modifying the HSTA, as applicable. This AD results from reports of failure of the lower gimbal pin of the HSTA. We are issuing this AD to prevent migration of the lower gimbal pin of the HSTA, which could result in loss of the horizontal stabilizer and consequent loss of control of the airplane.

DATES: This AD becomes effective January 25, 2006.

The Director of the Federal Register approved the incorporation by reference of certain publications listed in the AD as of January 25, 2006.

ADDRESSES: You may examine the AD docket on the Internet at http://dms.dot.gov or in person at the Docket Management Facility, U.S. Department of Transportation, 400 Seventh Street, SW., Nassif Building, room PL-401, Washington, DC.

Contact Bombardier, Inc., Canadair, Aerospace Group, P.O. Box 6087, Station Centre-ville, Montreal, Quebec H3C 3G9, Canada, for service information identified in this AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-1A11 (CL-600), CL-600-2A12 (CL-601), and CL-600-2B16 (CL-601-3A and CL-601-3R) airplanes. That NPRM was published in the Federal Register on October 6, 2005 (70 FR 58355). That NPRM proposed to require measuring to detect migration of the lower gimbal pin and inspecting for other discrepancies of the horizontal stabilizer trim actuator (HSTA). That NPRM also proposed to require replacing or modifying the HSTA, as applicable.

Comments

We provided the public the opportunity to participate in the development of this AD. We received no comments on the NPRM or on the determination of the cost to the public.

Clarification of Compliance Time

We have revised paragraph (g)(1) of this AD to clarify that the actions in that paragraph must be done before further flight.

Conclusion

We have carefully reviewed the available data and determined that air safety and the public interest require adopting the AD with the change described previously. We have determined that this change will neither increase the economic burden on any operator nor increase the scope of the AD.

Costs of Compliance

This AD will affect about 269 airplanes of U.S. registry. The measurement/inspection and modification will take about 5 work hours per airplane, at an average labor rate of $65 per work hour. Required parts will cost about $462 per airplane. Based on these figures, the estimated cost of the AD for U.S. operators is $211,703, or $787 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-26-04 Bombardier, Inc. (Formerly Canadair): Amendment 39-14425. Docket No. FAA-2005-22627; Directorate Identifier 2005-NM-156-AD.

Effective Date

(a) This AD becomes effective January 25, 2006.

Affected ADs

(b) None.

Applicability

(c) This AD applies to the Bombardier airplanes identified in Table 1 of this AD, certificated in any category.

Table 1.—Applicability
Bombardier airplane models | Serial numbers
CL-600-1A11 (CL-600) | 1004 through 1085 inclusive.
CL-600-2A12 (CL-601) | 3001 through 3066 inclusive.
CL-600-2B16 (CL-601-3A and CL-601-3R) | 5001 through 5194 inclusive.

Unsafe Condition

(d) This AD results from reports of failure of the lower gimbal pin of the horizontal stabilizer trim actuator (HSTA). We are issuing this AD to prevent migration of the lower gimbal pin of the HSTA, which could result in loss of the horizontal stabilizer and consequent loss of control of the airplane.

Compliance

(e) You are responsible for having the actions required by this AD performed within the compliance times specified, unless the actions have already been done.

Service Bulletin Reference

(f) The term “service bulletin,” as used in this AD, means the Accomplishment Instructions of the service bulletins identified in paragraphs (f)(1) and (f)(2) of this AD, as applicable.

(1) For Model CL-600-1A11 (CL-600) airplanes: Bombardier Service Bulletin 600-0720, dated January 31, 2005.

(2) For Bombardier Model CL-600-2A12 (CL-601) and CL-600-2B16 (CL-601-3A and CL-601-3R) airplanes: Bombardier Service Bulletin 601-0555, dated January 31, 2005.

Note 1: The Bombardier service bulletins identified in paragraphs (f)(1) and (f)(2) of this AD refer to Goodrich Service Bulletin 21207-00X-27-05, dated January 31, 2005, as an additional source of service information for doing the modification of the HSTA.

Measurement and Modification or Replacement

(g) Within 600 flight hours or 16 months after the effective date of this AD, whichever is first: Measure the clearance between the yoke and the lower side of the gimbal pin head on the HSTA to detect migration of the lower gimbal pin of the HSTA, and do a detailed inspection to detect discrepancies of the HSTA, in accordance with the service bulletin.

(1) If the lower gimbal pin has not migrated and no discrepancy is found: Before further flight, modify the HSTA by installing the gimbal pin kit, or replace the existing HSTA with a new or serviceable, modified HSTA, in accordance with the service bulletin.

(2) If the lower gimbal pin has migrated or any discrepancy is found: Before further flight, replace the HSTA with a new or serviceable, modified HSTA, in accordance with the service bulletin.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Reporting

(h) If any gimbal pin is found migrated: Submit a report of the findings (migrated pins only) of the measurement and inspections required by paragraph (g) of this AD to Bombardier, Attention: Dept. Customer Support Program Office (CSPO), fax (514) 855-8798. Submit the report at the applicable time specified in paragraph (h)(1) or (h)(2) of this AD. The report must include the airplane serial number, the HSTA part number and serial number, the results of the inspection, and the action taken. Submitting the Service Bulletin Feedback Form of the service bulletin is an acceptable means of complying with this requirement. Under the provisions of the Paperwork Reduction Act of 1980 (44 U.S.C. 3501 et seq.), the Office of Management and Budget (OMB) has approved the information collection requirements contained in this AD and has assigned OMB Control Number 2120-0056.

(1) If the measurement was done after the effective date of this AD: Submit the report within 30 days after the inspection.

(2) If the measurement was done prior to the effective date of this AD: Submit the report within 30 days after the effective date of this AD.

Parts Installation

(i) As of the effective date of this AD, no person may install an HSTA on any airplane unless the actions required by paragraph (g) of this AD are accomplished on it.

Alternative Methods of Compliance (AMOCs)

(j)(1) The Manager, New York Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) Canadian airworthiness directive CF-2005-20, dated June 23, 2005, also addresses the subject of this AD.

Material Incorporated by Reference

(l) You must use Bombardier Service Bulletin 600-0720, dated January 31, 2005; or Bombardier Service Bulletin 601-0555, dated January 31, 2005; as applicable, to perform the actions that are required by this AD, unless the AD specifies otherwise. The Director of the Federal Register approved the incorporation by reference of these documents in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street SW., Room PL-401, Nassif Building, Washington, DC; on the Internet at http://dms.dot.gov; or at the National Archives and Records Administration (NARA).

For information on the availability of this material at the NARA, call (202) 741-6030, or go to http://www.archives.gov/federal_register/code_of_federal_regulations/ibr_locations.html.

Issued in Renton, Washington, on December 13, 2005.
Ali Bahrami,
Manager, Transport Airplane Directorate, Aircraft Certification Service.

[FR Doc. 05-24244 Filed 12-20-05; 8:45 am]

BILLING CODE 4910-13-P